INTERNATIONAL TRADE COMMISSION

[Investigation No. 337-TA-1250]

Certain Cellular Signal Boosters, Repeaters, Bi-Directional Amplifiers, and Components Thereof (II); Commission Determination Not To Review an Initial Determination Terminating the Investigation Based on Settlement; Termination of the Investigation

AGENCY: U.S. International Trade Commission.

ACTION: Notice.

SUMMARY: Notice is hereby given that the U.S. International Trade Commission (“Commission”) has determined not to review an initial determination (“ID”) (Order No. 8) of the presiding administrative law judge (“ALJ”) granting a joint motion to terminate the investigation in its entirety based on settlement.

FOR FURTHER INFORMATION CONTACT: Robert Needham, Office of the General Counsel, U.S. International Trade Commission, 500 E Street SW, Washington, DC 20436, telephone (202) 708-5468. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on February 25, 2021, based on a complaint filed by Wilson Electronics LLC of St. George, Utah (“Wilson”). 86 FR 11555-56 (February 25, 2021). The complaint, as supplemented, alleged violations of section 337 of the Tariff Act of 1930, as amended, 19 U.S.C. 1337, in the importation into the United States, the sale for importation, and the sale within the United States after importation of certain cellular signal boosters, repeaters, bi-directional amplifiers, and components thereof by reason of infringement of certain claims of U.S. Patent Nos. 7,221,967; 7,409,186; 7,486,929; 7,729,669; 7,783,318; 8,583,033; 8,583,034 (“the '034 patent); 8,639,180 (“the '180 patent); 8,755,399; 8,849,187; 8,874,029 (“the '029 patent); and 8,874,030 (“the '030 patent). Id. The Commission's notice of investigation named as respondents Cellphone-Mate, Inc. d/b/a SureCall of Fremont, California, and Shenzhen SureCall Communication Technology Co., Ltd. of Shenzhen, China (together, “SureCall”). Id. at 11556. The Commission determined to sever the investigation into three separate investigations based on the complaint to further efficient adjudication. The present investigation was instituted to determine whether there is a violation of Section 337 with respect to claims 1-20 of the '034; claims 10-14, and 16-17 of the '180 patent; claims 1-10 and 13-15 of the '029 patent; and claims 1-24 of the '030 patent. The Office of Unfair Import Investigations is not participating in this investigation. Id.

On May 12, 2021, Wilson and SureCall jointly moved to terminate the investigation based on settlement. No responses to the motion were received.

On May 13, 2021, the ALJ issued the subject ID, granting the motion and terminating the investigation based on settlement. The ID finds that the motion complies with Commission Rule 210.21(b) and that “there is no evidence showing that terminating this investigation on the basis of settlement would adversely affect the public health and welfare, competitive conditions in the U.S. economy, the production of like or directly competitive articles in the United States, or U.S. consumers.” Order No. 8, at 2-3. No petitions for review of the ID were filed.

The Commission has determined not to review the subject ID. The investigation is hereby terminated in its entirety.

The Commission vote for this determination took place on May 27, 2021.

The authority for the Commission's determination is contained in section 337 of the Tariff Act of 1930, as amended (19 U.S.C. 1337), and in part 210 of the Commission's Rules of Practice and Procedure (19 CFR part 210).

By order of the Commission.
Issued: May 27, 2021.
Lisa Barton,
Secretary to the Commission.

[FR Doc. 2021-11619 Filed 6-2-21; 8:45 am]

BILLING CODE 7020-02-P